DEPARTMENT OF TRANSPORTATION

Federal Aviation Administration

14 CFR Part 39

[Docket No. FAA-2008-1363; Directorate Identifier 2008-NM-104-AD; Amendment 39-16032; AD 2009-20-09]

RIN 2120-AA64

Airworthiness Directives; Boeing Model 767-200, -300, and -300F Series Airplanes

AGENCY: Federal Aviation Administration (FAA), DOT.

ACTION: Final rule.

SUMMARY: We are adopting a new airworthiness directive (AD) for certain Boeing Model 767-200, -300, and -300F series airplanes. This AD requires repetitive inspections for fatigue cracking and corrosion of the upper link fuse pin of the nacelle struts, and related investigative and corrective actions if necessary. This AD also provides terminating action for the repetitive inspections. This AD results from two reports of cracked upper link fuse pins. We are issuing this AD to prevent fatigue cracking or corrosion of the upper link fuse pin, which could result in failure of the fuse pin and consequent reduced structural integrity of the nacelle strut and possible separation of the strut and engine from the airplane during flight.

DATES: This AD is effective November 5, 2009.

The Director of the Federal Register approved the incorporation by reference of a certain publication listed in the AD as of November 5, 2009.

ADDRESSES: For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Berhane Alazar, Aerospace Engineer, Airframe Branch, ANM-120S, FAA, Seattle Aircraft Certification Office (ACO), 1601 Lind Avenue, SW., Renton, Washington 98057-3356; telephone (425) 917-6577; fax (425) 917-6590.

SUPPLEMENTARY INFORMATION:

Discussion

We issued a notice of proposed rulemaking (NPRM) to amend 14 CFR part 39 to include an airworthiness directive (AD) that would apply to certain Boeing Model 767-200, -300, and -300F series airplanes. That NPRM was published in the Federal Register on January 12, 2009 (74 FR 1155). That NPRM proposed to require repetitive inspections for fatigue cracking and corrosion of the upper link fuse pin of the nacelle struts, and related investigative and corrective actions if necessary. That NPRM also proposed to provide terminating action for the repetitive inspections.

Comments

We gave the public the opportunity to participate in developing this AD. We considered the comments received.

Support for the AD

Boeing concurs with the content of the NPRM. Air Transport Association (ATA) on behalf of its members Delta Airlines and United Airlines (UAL) agrees with the intent of the NRPM, and provides the following recommendations from its members.

Request to Add a Note of Clarification

Delta asks that we revise the NPRM to include a note in the AD which specifies that the upper link inspections can be done with the pylon and/or engine in any position. Delta states that Boeing Alert Service Bulletin 767-54A0074, Revision 1, dated April 24, 2008, specifies doing a visual inspection with “the fuse pin in place, without engine removal and strut removal.” Delta notes that there are times when engines or pylons are removed for other reasons, and it would prefer not to wait until the engine and strut are reinstalled. Delta states that the procedures specified in Boeing Alert Service Bulletin 767-54A0074, Revision 1, dated April 24, 2008, allow fuse pin inspections with the engines and pylons in any position. Delta adds that related service information, Boeing Telex 1-1154785301, dated January 21, 2009 (released after the NPRM was issued), specifies that the upper link inspections can be done with the pylon and/or engine in any position.

We agree with the commenter's request. For the reasons provided by Delta, we have included a new Note 1 after paragraph (f) of this AD to specify that the upper link inspections can be done with the pylon and/or engine in any position.

Request to Define “References”

Delta asks that we revise the NPRM to include a note to clarify that the “References” column in the table in Figure 2 of Boeing Alert Service Bulletin 767-54A0074, Revision 1, dated April 24, 2008, should be treated as “refer to” material (which is information that provides guidance for using related procedures), as defined in Note 9 of paragraph 3.A. of that service bulletin. Delta points out that the procedures in Boeing Telex 1-1154785301, dated January 21, 2009, specify that the airplane maintenance manual (AMM) and standard operating procedures manual (SOPM) are identified in the “References” column of that table as “refer to” material so that operator equivalent procedures may be used.

We agree that the material in the “References” column in the table in Figure 2 of Boeing Alert Service Bulletin 767-54A0074, Revision 1, dated April 24, 2008, refers to the procedures in the specified manuals and should be treated as guidance for using related procedures. However, to add a note to this AD could be confusing because none of the paragraphs in the AD refer to the procedures in those manuals. Therefore, we have made no change to the AD in this regard.

Request to Add a Note Clarifying Application of Primer

Delta asks that we revise the NPRM to include a note to clarify that re-application of primer in accordance with Steps 4.b.(1) and 4.b.(2) of the Accomplishment Instructions of Boeing Alert Service Bulletin 767-54A0074, Revision 1, dated April 24, 2008, is necessary only to touch up bare areas of the fuse pin. Delta states that paragraph 3.B, Step 4.b., of the Accomplishment Instructions of Boeing Alert Service Bulletin 767-54A0074, Revision 1, dated April 24, 2008, specifies applying two coats of Boeing Material Specification (BMS) 10-11 primer after each inspection if no cracks are found during the inspection. Delta notes that the procedure does not specify “touching up primer” but rather applying two coats each time. Delta adds that since the repeat inspection interval is much shorter, the fuse pin will have ten coats of primer built up over the next ten years, and asserts that the inspection cannot be done through ten coats of primer. Delta points out that Boeing has confirmed in Boeing Telex 1-1154785301, dated January 21, 2009, that two coats of primer are required only to touch up bare areas on the fuse pin.

We agree that clarification is necessary for the reasons provided by Delta. We have included a new Note 2 after paragraph (f) of this AD to specify that two coats of primer are necessary only to touch up bare areas of the fuse pin.

Request to Provide Credit for Inspections Done Using Previous Service Information

UAL asks that operators be given credit for inspections done before the effective date of the AD in accordance with Boeing Service Bulletin 767-54-0074, dated March 27, 1997. UAL notes that paragraph (h) of the NPRM provides credit for the replacement of fuse pins done in accordance with Boeing Service Bulletin 767-54-0074, dated March 27, 1997, but does not provide credit for the inspections, even though the procedures in the original issue and Revision 1 of the service bulletin are the same.

We agree with the commenter. We have confirmed that inspections done before the effective date of this AD in accordance with Boeing Service Bulletin 767-54-0074, dated March 27, 1997, are acceptable for compliance with the inspection requirements of paragraph (f) of this AD. However, we point out that Boeing Service Bulletin 767-54-0074, dated March 27, 1997, allows the use of operator's equivalent procedures, which Boeing Service Bulletin 767-54-0074, Revision 1, dated April 24, 2008, does not allow. Therefore, we have revised paragraph (h) of this AD to give credit for inspections done before the effective date of this AD in accordance with Boeing Service Bulletin 767-54-0074, dated March 27, 1997, provided that the inspection was not done using operator's equivalent procedures.

Request to Clarify Certain Language in Paragraph (h) of the NPRM

UAL suggests that paragraph (h) of the NPRM be revised to clarify the meaning of “corresponding requirements.” UAL states that paragraph (h) of the NPRM specifies that replacement of the fuse pins in accordance with Boeing Service Bulletin 767-54-0074, dated March 27, 1997, is acceptable for compliance with the “corresponding requirements” of this AD. UAL notes that the phrase “for compliance with the `corresponding requirements' of this AD” is very vague.

We agree that clarification is necessary for the reasons provided by the commenter. We have changed paragraph (h) of this AD to refer to paragraph (f) of this AD for the inspections and paragraph (g) of this AD for the modification.

Request to Extend Grace Period

Aeroflot asks that we increase the grace period for the inspections so that operators can prepare for accomplishment of the requirements in the AD. Aeroflot states that it is convenient to plan the work with common access SC-Checks, and adds that the NPRM gives a simple C-Check preparation period. Aeroflot states that this work has an economic impact with the time used in preparation and gaining access.

We do not agree with the commenter's request. In developing an appropriate compliance time for this AD, we considered not only the safety implications, but the manufacturer's recommendations, and the practical aspect of accomplishing the actions within an interval of time that corresponds to typical scheduled maintenance for affected operators. However, under the provisions of paragraph (i) of this AD, we may consider requests for adjustments to the compliance time if data are submitted to substantiate that such an adjustment would provide an acceptable level of safety. We have made no change to the AD in this regard.

Conclusion

We reviewed the relevant data, considered the comments received, and determined that air safety and the public interest require adopting the AD with the changes described previously. We also determined that these changes will not increase the economic burden on any operator or increase the scope of the AD.

Costs of Compliance

We estimate that this AD affects 354 airplanes of U.S. registry. We also estimate that it will take 4 work-hours per product to comply with this AD. The average labor rate is $80 per work-hour. Based on these figures, we estimate the cost of this AD to the U.S. operators to be $113,280, or $320 per product.

Authority for this Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-20-09 Boeing: Amendment 39-16032. Docket No. FAA-2008-1363; Directorate Identifier 2008-NM-104-AD.

Effective Date

(a) This airworthiness directive (AD) is effective November 5, 2009.

Affected ADs

(b) None.

Applicability

(c) This AD applies to Boeing Model 767-200, -300, and -300F series airplanes, certificated in any category; as identified in Boeing Alert Service Bulletin 767-54A0074, Revision 1, dated April 24, 2008.

Unsafe Condition

(d) This AD results from two reports of cracked upper link fuse pins. We are issuing this AD to prevent fatigue cracking or corrosion of the upper link fuse pin, which could result in failure of the fuse pin and consequent reduced structural integrity of the nacelle strut and possible separation of the strut and engine from the airplane during flight.

Compliance

(e) Comply with this AD within the compliance times specified, unless already done.

Initial and Repetitive Inspections/Investigative and Corrective Actions

(f) Inspect the upper link fuse pin of the nacelle struts for fatigue cracking and corrosion at the applicable time specified in Table 1 of this AD. Do the applicable inspection by doing all the applicable actions specified in the Accomplishment Instructions of Boeing Alert Service Bulletin 767-54A0074, Revision 1, dated April 24, 2008; and do all applicable related investigative and corrective actions before further flight. Repeat the applicable inspection at intervals not to exceed 3,000 flight cycles or 24 months, whichever is first, until the requirements of paragraph (g) of this AD have been done.

Table 1—Compliance Times
Engine type | At the later of: initial inspection threshold | Grace period
JT9D | 14,000 total flight cycles | Within 3,000 flight cycles or 18 months after the effective date of this AD, whichever is first.
CF6-80A | 24,000 total flight cycles | Within 3,000 flight cycles or 18 months after the effective date of this AD, whichever is first.
PW4000 | 8,000 total flight cycles | Within 3,000 flight cycles or 18 months after the effective date of this AD, whichever is first.
CF6-80C2 | 10,000 total flight cycles | Within 3,000 flight cycles or 18 months after the effective date of this AD, whichever is first.
RB211 | 24,000 total flight cycles | Within 3,000 flight cycles or 18 months after the effective date of this AD, whichever is first.

Note 1: The upper link inspections can be done with the pylon and/or engine in any position.

Note 2: In paragraph 3.B, Steps 4.b.(1)(a) and 4.b.(2)(b)2){a} of the Accomplishment Instructions of Boeing Alert Service Bulletin 767-54A0074, Revision 1, dated April 24, 2008, the procedures specify to apply two layers of Boeing Material Specification (BMS) 10-11 primer to the inside surface of the fuse pin if no crack indication is found. However, two layers of primer are only necessary to touch up bare areas on the fuse pin if no crack indication is found.

Terminating Action in AD 2000-19-09, Amendment 39-11910, and AD 2004-16-12, Amendment 39-13768

(g) Accomplishment of the modification specified in paragraph (g)(1) or (g)(2) of this AD, as applicable, terminates the inspections required by paragraph (f) of this AD.

(1) For Model 767 series airplanes powered by Rolls-Royce RB211 series engines, as identified in AD 2000-19-09: Modification of the nacelle strut and wing structure, as required by paragraphs (a) and (b) of AD 2000-19-09.

(2) For Model 767-200, -300, and -300F series airplanes powered by Pratt & Whitney and General Electric engines, as identified in AD 2004-16-12: Modification of the nacelle strut and wing structure, as required by paragraphs (a), (b), (d), and (e) of AD 2004-16-12.

Credit for Actions Done Using Previous Service Information

(h) Inspection of the fuse pins before the effective date of this AD in accordance with Boeing Service Bulletin 767-54-0074, dated March 27, 1997, is acceptable for compliance with the inspections required by paragraph (f) of this AD if the inspections are accomplished without using an operator's equivalent procedure. Replacement of the fuse pins with new fuse pins before the effective date of this AD in accordance with Boeing Service Bulletin 767-54-0074, dated March 27, 1997, is acceptable for compliance with the modification required by paragraph (g) of this AD.

Alternative Methods of Compliance (AMOCs)

(i)(1) The Manager, Seattle Aircraft Certification Office (ACO), FAA, ATTN: Berhane Alazar, Aerospace Engineer, Airframe Branch, ANM-120S, FAA, Seattle ACO, 1601 Lind Avenue, SW., Renton, Washington 98057-3356; telephone (425) 917-6577; fax (425) 917-6590; has the authority to approve AMOCs for this AD, if requested using the procedures found in 14 CFR 39.19. Or, e-mail information to 9-ANM-Seattle-ACO-AMOC-Requests@faa.gov.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(j) You must use Boeing Alert Service Bulletin 767-54A0074, Revision 1, dated April 24, 2008; to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on September 18, 2009.
Ali Bahrami,
Manager, Transport Airplane Directorate, Aircraft Certification Service.

[FR Doc. E9-23506 Filed 9-30-09; 8:45 am]

BILLING CODE 4910-13-P